ENVIRONMENTAL PROTECTION AGENCY

[FRL-8564-9]

Agency Information Collection Activities OMB Responses

AGENCY: Environmental Protection Agency (EPA).

ACTION: Notice.

SUMMARY: This document announces the Office of Management and Budget's (OMB) responses to Agency Clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 2156.02; Populations, Usage and Emissions of Diesel Nonroad Equipment (Renewal); was approved 04/08/2008; OMB Number 2060-0553; expires 04/30/2010.

EPA ICR Number 0661.09; NSPS for Asphalt Processing and Roofing Manufacturing (Renewal); in 40 CFR part 60, subpart UU; was approved 04/08/2008; OMB Number 2060-0002; expires 04/30/2011.

EPA ICR Number 1741.05; Correction of Misreported Chemical Substances on the Toxic Substances Control Act (TSCA) Chemical Substances Inventory; was approved 04/09/2008; OMB Number 2070-0145; expires 04/30/2011.

EPA ICR Number 2268.02; NESHAP for Paint Stripping and Miscellaneous Surface Coating at Area Sources (Final Rule); in 40 CFR part 63, subpart HHHHHH; was approved 04/10/2008; OMB Number 2060-0607; expires 04/30/2011.

EPA ICR Number 1767.05; NESHAP for Primary Aluminum Reduction Plants (Renewal); in 40 CFR part 63, subpart LL; was approved 04/14/2008; OMB Number 2060-0360; expires 04/30/2011.

EPA ICR Number 1626.10; National Recycling and Emissions Reduction Program (Renewal); in 40 CFR part 82, subpart F; was approved 04/25/2008; OMB Number 2060-0256; expires 04/30/2011.

EPA ICR Number 1975.05; NESHAP for Stationary Reciprocating Internal Combustion Engines (Final Rule); in 40 CFR part 63, subpart ZZZZ; was approved 05/01/2008; OMB Number 2060-0548; expires 04/30/2011.

EPA ICR Number 2047.02; Participation by Disadvantaged Business Enterprises in Procurement under Environmental Protection Agency (EPA) Financial Assistance Agreements (Final Rule); was approved 05/01/2008; OMB Number 2090-0030; expires 01/31/2011.

Dated: May 7, 2008.
Sara Hisel-McCoy,
Director, Collection Strategies Division.

[FR Doc. E8-10658 Filed 5-12-08; 8:45 am]

BILLING CODE 6560-50-P